COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds service(s) to the Procurement List that will be furnished by nonprofit agencies employing persons who are blind or have other severe disabilities, and deletes product(s) and service(s) from the Procurement List previously furnished by such agencies.

DATES: Date added to and deleted from the Procurement List: March 17, 2024.

ADDRESSES: Committee for Purchase From People Who Are Blind or Severely Disabled, 355 E Street SW, Suite 325, Washington, DC 20024.

FOR FURTHER INFORMATION CONTACT: Michael R. Jurkowski, Telephone: (703) 785-6404 or email CMTEFedReg@AbilityOne.gov.

SUPPLEMENTARY INFORMATION:

Additions

On 1/12/2024, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of

the Javits-Wagner-O'Day Act (41 U.S.C. 8501-8506) in connection with the service(s) proposed for addition to the Procurement List.

End of Certification

Accordingly, the following service(s) are added to the Procurement List:

Service(s)

Service Type: Custodial & Grounds Maintenance

Mandatory for: Defense Contract Management Agency, Hancock Field Air National Guard Base, Building 613, Syracuse, NY

Designated Source of Supply: Oswego Industries, Inc., Fulton, NY

Contracting Activity: DEFENSE CONTRACT MANAGEMENT AGENCY (DCMA), DEFENSE CONTRACT MANAGMENT OFFICE

Deletions

On 1/12/2024, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7530-01-516-7577—Pad, Writing Paper, Glue Bound Top, Legal Rule, White, 8-½″ x 13-¼″

7530-01-516-7572—Pad, Writing Paper, Glue Bound Top, Legal Rule, Canary, 5″ x 8″

Designated Source of Supply: Blind Industries & Services of Maryland, Baltimore, MD

Contracting Activity: GSA/FAS ADMIN SVCS ACQUISITION BR(2, NEW YORK, NY

NSN(s)—Product Name(s):

3030-01-375-8087—Belt, Micro-V, V-ribbed, 4 Ribs, EPDM Rubber, 35.5″ long

3030-01-466-9476—Belt, V-shaped, Micro, EPDM Rubber, 8 Ribs, 98.07″

Designated Source of Supply: Northeastern Association of the Blind at Albany, Inc., Albany, NY

Contracting Activity: DLA LAND AND MARITIME, COLUMBUS, OH

NSN(s)—Product Name(s): 8445-01-436-2695—Belt, Trousers, Women's, Type XII, Black, Size 45

Designated Source of Supply: Travis Association for the Blind, Austin, TX

Contracting Activity: DLA TROOP SUPPORT, PHILADELPHIA, PA

NSN(s)—Product Name(s): 8140-00-NSH-0014—Tube, Cardboard, Grenade, 155mm Projectile

Designated Source of Supply: SVRC Industries, Inc., Saginaw, MI

Contracting Activity: W4MM USA JOINT MUNITIONS CMD, ROCK ISLAND, IL

Service(s)

Service Type: Document Destruction

Mandatory for: VA Medical Clinic: 25 North Spruce, NULL, Colorado Springs, CO

Designated Source of Supply: Bayaud Enterprises, Inc., Denver, CO

Contracting Activity: VETERANS AFFAIRS, DEPARTMENT OF, 259-NETWORK CONTRACT OFFICE 19

Service Type: Document Destruction

Mandatory for: Department of Veterans Affairs, Network Contracting Office, NCO 19, Glendale, CO

Designated Source of Supply: Bayaud Enterprises, Inc., Denver, CO

Contracting Activity: VETERANS AFFAIRS, DEPARTMENT OF, 259-NETWORK CONTRACT OFFICE 19

Michael R. Jurkowski,
Acting Director, Business Operations.

[FR Doc. 2024-03276 Filed 2-15-24; 8:45 am]

BILLING CODE 6353-01-P